DEPARTMENT OF LABOR

Employment and Training Administration

[TA-W-64,022]

Honeywell International Formerly Known as Hand Held Products Scanning and Mobility Including On-Site Leased Workers From Manpower Skaneateles Falls, NY; Amended Certification Regarding Eligibility To Apply for Worker Adjustment Assistance and Alternative Trade Adjustment Assistance

In accordance with Section 223 of the Trade Act of 1974 (19 U.S.C. 2273), and Section 246 of the Trade Act of 1974 (26 U.S.C. 2813), as amended, the Department of Labor issued a Certification Regarding Eligibility to Apply for Worker Adjustment Assistance and Alternative Trade Adjustment Assistance on September 22, 2008, applicable to workers of Honeywell International, Scanning and Mobility, including on-site leased workers from Manpower, Skaneateles Falls, New York. The notice was published in the Federal Register on October 8, 2008 (73 FR 58981).

At the request of a company official, the Department reviewed the certification for workers of the subject firm. The workers are engaged in the production of bar code scanners.

New information shows that before December 21, 2007, Honeywell International, Scanning and Mobility, Skaneateles Falls, New York was known as Hand Held Products. Some of the workers wages at the subject firm are being reported under a separate Unemployment Insurance (UI) tax account for Hand Held Products.

Accordingly, the Department is amending this certification to properly reflect this matter.

The intent of the Department's certification is to include all workers of Honeywell International, formerly known as Hand Held Products, Scanning and Mobility who were adversely affected by increased imports following a shift in production of bar code scanners to Taiwan and China.

The amended notice applicable to TA-W-64,022 is hereby issued as follows:

“All workers of Honeywell International, formerly known as Hand Held Products, Scanning and Mobility, including on-site leased workers from Manpower, Skaneateles Falls, New York, who became totally or partially separated from employment on or after September 9, 2007 through September 22, 2010, through June 16, 2010, are eligible to apply for adjustment assistance under Section 223 of the Trade Act of 1974, and are also eligible to apply for alternative trade adjustment assistance under Section 246 of the Trade Act of 1974.”

Signed at Washington, DC, this 8th day of October 2008.
Linda G. Poole,
Certifying Officer, Division of Trade Adjustment Assistance.

[FR Doc. E8-24865 Filed 10-20-08; 8:45 am]

BILLING CODE 4510-FN-P